DEPARTMENT OF THE INTERIOR

Fish and Wildlife Service

Notice of Intent To Prepare a Joint Environmental Impact Statement/ Environmental Impact Report for the Invasive Spartina Project

AGENCY: Fish and Wildlife Service, Interior (Lead Agency).

ACTION: Notice of intent.

SUMMARY: The Fish and Wildlife Service (Service) and the California State Coastal Conservancy (Conservancy) are preparing a programmatic Environmental Impact Statement/Environmental Impact Report (EIS/R) on implementation of a regional eradication and/or control program for nonnative, invasive Spartina, a perennial cordgrass, in the San Francisco Bay Estuary. The EIS/R is intended to provide National Environmental Policy Act (NEPA) and California Environmental Quality Act (CEQA) compliance for the overall Invasive Spartina Project, including identification of all necessary permits and approvals from lead agencies and supporting environmental documentation for other necessary local, State, and Federal permits. The EIS/R would also provide supporting documentation for future grant applications to obtain funding necessary to implement certain elements of the overall project.

DATES: A public scoping meeting to solicit comment on possible alternatives for the eradication and/or control on nonnative, invasive Spartina in the San Francisco Bay Estuary will be held on April 24th, 2001 at the Office of the Association of Bay Area Governments, Joseph P. Bork Metro Center, 101 8th Street (8th & Oak Streets), Oakland, California, 94607 at 7 p.m. to 9 p.m. Written comments are encouraged and should be received on or before June 4, 2001.

ADDRESSES: Information or comments related to the NEPA process should be submitted to Wayne White, Field Supervisor, U.S. Fish and Wildlife Service, Sacramento Fish and Wildlife Office, 2800 Cottage Way, W-2605, Sacramento, California 95825. Written comments may also be sent by facsimile to (916) 414-6713. All comments, including names and addresses, will become part of the administrative record and may be released.

FOR FURTHER INFORMATION CONTACT: Questions regarding the NEPA process, including scoping, may be directed to Ms. Marla Macoubrie, U.S. Fish and Wildlife Service, Sacramento Fish and Wildlife Office, 2800 Cottage Way, W-2605, Sacramento, California 95825 (telephone (916) 414-6600). For questions concerning the CEQA process, please contact Ms. Maxene Spellman, California State Coastal Conservancy, 1330 Broadway, 11th Floor, Oakland, California, 94612 (telephone (510) 286-0332).

SUPPLEMENTARY INFORMATION:

Project Description

This EIS/R will evaluate the environmental effects of adopting and implementing a regional program, the Invasive Spartina Project, being established to eradicate and/or control invasive species of Spartina in the San Francisco Bay Estuary. This programmatic document may be supplemented in the future by project-specific CEQA/NEPA documents at up to four pilot project sites. These project-level studies would allow for consideration of techniques specifically tailored for conditions at each site.

The primary goal of the Invasive Spartina Project is to eradicate and/or control invasive Spartina in the tidal marshlands and intertidal mudflats along margins of the San Francisco Bay, an area providing habitat for several Federal and State listed species. These efforts will be regionally coordinated with other resource and wildlife agencies in order to minimize disturbance to sensitive habitats and species.

It is estimated that eradication of S. alterniflora could provide restoration and possible preservation of up to 40,000 acres of tidal wetlands and up to 29,000 acres of intertidal mud flats. Three other nonnative, introduced species of Spartina (S. anglica, S. densiflora, and S. patens) would be targeted by this project along margins of the San Francisco Bay.

An ongoing project in Washington State provides preliminary information to this effort on six methods to control and/or eradicate invasive Spartina. These methods, listed below, will be evaluated in the EIS/R. Any alternative in the EIS/R process may consider one or more of the following control methods in conjunction with habitat type or setting and geographic location:

• Covering Spartina with fabric and/or plastic materials to prevent photosynthesis;

• Mowing Spartina with mowers or “weed-eaters” and/or mowing and burying with sediments;

• Physical removal of Spartina seedlings and plants by digging, pulling, pushing or seedhead clipping;

• Chemical control of Spartina with registered herbicide (Rodeo) or experimentally permitted herbicides (Sonar, Arsenal) and surfactants using ground application (backpack, truck, airboat, hovercraft, all terrain vehicles) or aerial application;

• Temporary diking of wetlands;

• Prescribed burns; and

• Combinations of the above methods (such as mowing and herbicide application).

The EIS/R will evaluate individual and cumulative impacts of alternatives based on the above control methods, as well as the no project/no action alternative, in accordance with NEPA and CEQA. Additional methods may be added following the public scoping process. The alternatives will be developed in coordination with the Service, the California Department of Fish and Game (DFG), the Conservancy (Invasive Spartina Project team), and private landowners with populations of nonnative Spartina on their properties.

The following actions and approvals are anticipated to be necessary to implement Spartina eradication and/or control efforts that might be established as a result of completion of this EIS/R process:

• U.S. Army Corps of Engineers permit(s) for Section 10 of the Rivers and Harbor Act and Section 404 of the Federal Clean Water Act;

• Federal and State Endangered Species Act consultations;

• California State Coastal Conservancy Plan approval;

• California Department of Transportation (Caltrans) Encroachment permit(s);

• DFG Streambed Alteration Agreement(s), Section 1601 of the DFG Code;

• California State Regional Water Quality Control Board 401 Certification(s) and/or Discharge permit(s);

• California State Bay Area Air Quality Management District permit(s);

• Certified Unified Program Agency permit(s) (CUPA Fire Department coordination);

• San Francisco Bay Conservation and Development Commission permit(s); and

• Local agency approval of specific implementation of projects.

Project Location

The geographic scope of the Invasive Spartina Project includes intertidal zones of 10 Bay Area counties bordering and including the San Francisco Bay. Seven of these counties have known populations of nonnative, invasive Spartina, including Contra Costa, Alameda, Santa Clara, San Mateo, San Francisco, Marin and Solano counties. The remaining three counties, Napa, Sacramento and Sonoma, do not currently have known populations and are being monitored.

Distribution of invasive Spartina is generally greatest in the Central and South San Francisco Bays with the North Bay and far reaches of the South Bay being the least infested. The largest infestations of S. alterniflora currently exist at four general sites within the Central and South Bays. These sites include the Hayward Regional Shoreline, Old Alameda Creek, the Alameda Flood Control Channel, and in San Bruno, just north of the San Francisco International Airport. Populations at these locations exceed 100 net acres of S. alterniflora. Populations between 10 and 100 net acres occur along the Oakland and Alameda Shoreline, San Leandro Bay, the Don Edwards National Wildlife Refuge, Greco Island, and Bair Island. Small scattered populations occur at Richmond, Emeryville, Coyote Creek, Stevens Creek, Coyote Point vicinity, Candlestick Cove, Yosemite Channel, Richardson Bay, along the Eastshore State Park shoreline, Guadalupe Slough, Palo Alto Baylands, Corte Madera, and San Rafael. The greatest infestation of S. densiflora exists along the length of Corte Madera Creek in Marin County. Populations of S. densiflora have also become established in San Rafael, Point Pinole, and in Burlingame. Spartina anglica is found only at Creekside Park in Marin County and S. patens is found only in Benecia and at Tolay Creek.

Potential Effects of Alternative Control Methodologies

The direct effects of physical and mechanical eradication/control measures may include disruption of soil/sediment, potentially resulting in erosion, increased water turbidity, and related adverse effects on aquatic biota. These measures also may have the potential to cause accidental mortality of non-target species, including sensitive species such as the California clapper rail (Rallus longirostris obsoletus), California black rail (Laterallus jamaicensis), salt marsh harvest mouse (Reithrodontomys raviventris), and others. In addition, by possibly disrupting the soil/sediment, these measures could facilitate subsequent colonization by nonnative Spartina or other invasive species.

Any possible chemical measures (herbicides) have the potential to kill non-target plant species such as native salt marsh plants, eelgrass, and algae. This could result in adverse indirect impacts to the salt marsh community in general, including sensitive species such as the California clapper rail, California black rail, salt marsh harvest mouse, and others. Loss of eelgrass and other marine flora, if occurring as a result of these measures, could provide for the loss of nursery and feeding habitat for many species of fish and invertebrates, including sensitive species such as the winter-run chinook salmon (Oncorhynchus tshawytscha), coho salmon (Oncorhynchus kisutch), steelhead (Oncorhynchus mykiss), and others. These areas also provide foraging habitat for many marine bird species, including the California least tern (Sterna antillarum). The toxicity to animals from herbicides under consideration is generally considered to be low. However, the environmental analysis will evaluate this toxicity, as well as the persistence and transport of these herbicides and their potential toxic effects away from the application site.

Spartina eradication and/or control also has the potential to change existing sediment accretion (shoaling) and erosion patterns, possibly affecting hydrodynamic patterns (currents, circulation, and waves). This could potentially degrade water quality (turbidity, flushing) as well as any associated biological communities (eelgrass, kelp beds, or marshes).

Scoping Process

The EIS/R will be prepared in compliance with NEPA and the Council on Environmental Quality NEPA Regulations, contained in 40 CFR parts 1500-1508; and with CEQA, Public Resources Code Sec 21000 et. seq., and the CEQA Guidelines, as amended. Because requirements for NEPA and CEQA are somewhat different, the document must be prepared to comply with whichever requirements are more stringent. The Service will be the lead agency for the NEPA process and the Conservancy will be the lead agency for the CEQA process. In accordance with both CEQA and NEPA, these lead agencies have the responsibility for the scope, content, and legal adequacy of the document. Therefore, all aspects of the EIS/R scope and process will be fully coordinated between the two agencies.

The draft EIS/R will incorporate public concerns associated with the project alternatives identified in the scoping process and will be distributed for at least a 45-day public review and comment period. During this time, both written and verbal comments will be solicited on the adequacy of the document. The final EIS/R will address the comments received on the draft EIS/R during public review and will be made available to all commenters on the draft EIS/R and anyone requesting a copy during the 45-day public review period. The final EIS/R shall (1) provide a full and fair discussion of the proposed action's significant environmental impacts, and (2) inform the decision-makers and the public of the reasonable measures and alternatives that would avoid or minimize adverse impacts or enhance the quality of the human environment.

The final step in the Federal EIS process is preparation of a Record of Decision (ROD), a concise summary of the decision(s) made by the Service. The ROD can be published immediately after the final EIS comment period has ended. The final step in the State EIR process is certification of the EIR which includes preparation of a Mitigation Monitoring and Reporting Plan and adoption of its findings should the project be approved. A certified EIR indicates the following: (1) The environmental document has been completed in compliance with CEQA; (2) the decision-making body of the lead agency reviewed and considered the final EIR prior to approving the project; and (3) the final EIR reflects the lead agency's independent judgement and analysis.

This notice is provided pursuant to regulations for implementing the National Environmental Policy Act of 1969 (40 CFR 1506.6).

Dated: April 12, 2001.
Steve Thompson,
Acting Manager, California/Nevada Operations Office.

[FR Doc. 01-9702 Filed 4-19-01; 8:45 am]

BILLING CODE 4310-55-P